DEPARTMENT OF VETERANS AFFAIRS

[OMB Control No. 2900-0747]

Agency Information Collection Activity Under OMB Review: Application for Disability Compensation and Related Compensation Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by December 19, 2025.

ADDRESSES: To submit comments and recommendations for the proposed information collection, please type the following link into your browser: www.reginfo.gov/public/do/PRAMain, select “Currently under Review—Open for Public Comments”, then search the list for the information collection by Title or “OMB Control No. 2900-0747.”

FOR FURTHER INFORMATION CONTACT: VA PRA information: Dorothy Glasgow, 202-461-1084, VAPRA@va.gov.

SUPPLEMENTARY INFORMATION:

Title: Application for Disability Compensation and Related Compensation Benefits (VA Form 21-526EZ).

OMB Control Number: 2900-0747. https://www.reginfo.gov/public/do/PRASearch.

Type of Review: Revision of a currently approved collection.

Abstract: VA Form 21-526EZ is used to collect the information needed to process a claim for disability compensation and/or related compensation benefits. The form has evolved over time into a standard claim form to be used for any benefit associated with disability compensation; to include new or initial claims and claims for increase. Without this information, determination of entitlement would not be possible. No changes have been made to this collection of information other than an increase in the burden estimate due to the number of receivables averaged over the past year and through the continuing improvement of VA's electronic claims processing systems.

An agency may not conduct or sponsor, and a person is not required to respond to a collection of information unless it displays a currently valid OMB control number. The Federal Register Notice with a 60-day comment period soliciting comments on this collection of information was published at insert citation date: 90 FR 40700, August 20, 2025.

Affected Public: Individuals or Households.

Estimated Annual Burden: 836,323 hours.

Estimated Average Burden per Respondent: 20 minutes.

Frequency of Response: One time.

Estimated Number of Respondents: 2,508,969 per year.

Authority: 44 U.S.C. 3501 et seq.

Dorothy Glasgow,
Acting, VA PRA Clearance Officer, Office of Information Technology, Data Governance Analytics, Department of Veterans Affairs.

[FR Doc. 2025-20309 Filed 11-18-25; 8:45 am]

BILLING CODE 8320-01-P